MERIT SYSTEMS PROTECTION BOARD

5 CFR Part 1203

Procedures for Review of Rules and Regulations of the Office of Personnel Management

AGENCY: Merit Systems Protection Board.

ACTION: Final rule.

SUMMARY: The Merit Systems Protection Board (MSPB or the Board) is amending its rules of practice and procedure in this part to reflect the relocation of its Washington, DC, headquarters. On July 24, 2000, the Board relocated its headquarters offices from 1120 Vermont Avenue, NW, to 1615 M Street, NW. The amendment to this part advises parties to requests for Board review of regulations of the Office of Personnel Management that pleadings must be filed with the Clerk of the Board at the new address.

EFFECTIVE DATE: August 10, 2000.

FOR FURTHER INFORMATION CONTACT: Robert E. Taylor, Clerk of the Board, (202) 653-7200.

The Board is publishing this rule as a final rule pursuant to 5 U.S.C. 1204(h).

List of Subjects in 5 CFR Part 1203

Administrative practice and procedure, Civil rights, Government employees.

Accordingly, the Board amends 5 CFR part 1203 follows:

PART 1203—PROCEDURES FOR REVIEW OF RULES AND REGULATIONS OF THE OFFICE OF PERSONNEL MANAGEMENT

1. The authority citation for part 1203 continues to read as follows:

Authority: 5 U.S.C. 1204(a), 1204(f), and 1204(h).

§ 1203.13 [Amended]

2. Amend 5 CFR 1203.13 at paragraph (a) by removing “1120 Vermont Avenue, NW.” and by adding in its place “1615 M Street, NW.”

Dated: August 4, 2000.
Robert E. Taylor,
Clerk of the Board.

[FR Doc. 00-20219 Filed 8-9-00; 8:45 am]

BILLING CODE 7400-01-M